DEPARTMENT OF DEFENSE

Department of the Navy

Notice of Intent To Grant Partially Exclusive Patent License; Lumedyne Technologies, Inc.

AGENCY: Department of the Navy, DoD.

ACTION: Notice.

SUMMARY: The Department of the Navy herby gives notice of its intent to grant to Lumedyne Technologies, Inc., a revocable, nonassignable, partially exclusive license in the United States to practice the Government-Owned invention(s) described in Navy Case No. 98745—Method of Fabricating a Micro-Electro-Mechanical Apparatus for Generating Power Responsive to Mechanical Vibration//Navy Case No. 99735—Apparatus for Generating Power Responsive to Mechanical Vibration//Navy Case No. 99740—Tunable Resonant Frequency MEMS Kinetic Energy Harvester//Navy Case No. 99741—Improved Electro-Magnetic Kinetic Energy Harvesting Device Using Increased Magnetic Edge Area//Navy Case No. 100809—Time Domain Inertial Sensor//Navy Case No. 100849—Structural Design of a Mechanical Gyro with Increased Sensitivity and Reduced Quadature Error//Navy Case No. 100869—Micro-Resonator with Reduced Acceleration Sensitivity and Phase Noise Using Time Domain Switch.

DATES: Anyone wishing to object to the grant of this license must file written objections along with supporting evidence, if any, no later than January 25, 2011.

ADDRESSES: Written objections are to be filed with the Office of Research and Technology Applications Space and Naval Warfare Systems Center Pacific, Code 72120, 53560 Hull St., Bldg. A33 Room 2305, San Diego, CA 92152-5001.

FOR FURTHER INFORMATION CONTACT: Brian Suh, Office of Research and Technology Applications, Space and Naval Warfare Systems Center Pacific, Code 72120, 53560 Hull St., Bldg. A33 Room 2305, San Diego, CA 92152-5001, telephone 619-553-5118, E-Mail: brian.suh@navy.mil.

Authority: 35 U.S.C. 207, 37 CFR part 404.

Dated: January 3, 2011.
D.J. Werner,
Lieutenant Commander, Office of the Judge Advocate General, U.S. Navy, Federal Register Liaison Officer.

[FR Doc. 2011-288 Filed 1-7-11; 8:45 am]

BILLING CODE 3810-FF-P